DEPARTMENT OF COMMERCE

National Oceanic and Atmospheric Administration

50 CFR Part 622

RIN 0648-BF77

Fisheries of the Caribbean, Gulf of Mexico, and South Atlantic; Shrimp Fishery of the Gulf of Mexico; Amendment 17A

AGENCY: National Marine Fisheries Service (NMFS), National Oceanic and Atmospheric Administration (NOAA), Commerce.

ACTION: Notice of availability; request for comments.

SUMMARY: The Gulf of Mexico (Gulf) Fishery Management Council (Council) has submitted Amendment 17A to the Fishery Management Plan for the Shrimp Fishery of the Gulf of Mexico (FMP) for review, approval, and implementation by NMFS. Amendment 17A includes actions to extend the Gulf commercial shrimp permit moratorium and retain the royal red endorsement to the Gulf shrimp permit.

DATES: Written comments must be received on or before June 6, 2016.

ADDRESSES: You may submit comments on Amendment 17A, identified by “NOAA-NMFS-2016-0018” by any of the following methods:

• Electronic Submission: Submit all electronic public comments via the Federal e-Rulemaking Portal. Go to www.regulations.gov/#!docketDetail;D=NOAA-NMFS-2016-0018, click the “Comment Now!” icon, complete the required fields, and enter or attach your comments.

• Mail: Submit written comments to Susan Gerhart, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Electronic copies of Amendment 17A, which includes an environmental assessment, a Regulatory Flexibility Act analysis, and a regulatory impact review, may be obtained from the Southeast Regional Office Web site at http://sero.nmfs.noaa.gov/sustainable_fisheries/gulf_fisheries/shrimp/2016/am17a/index.html.

FOR FURTHER INFORMATION CONTACT: Susan Gerhart, telephone: 727-824-5305, or email: Susan.Gerhart@noaa.gov.

SUPPLEMENTARY INFORMATION: The Magnuson-Stevens Fishery Conservation and Management Act (Magnuson-Stevens Act) requires each regional fishery management council to submit any FMP or amendment to NMFS for review and approval, partial approval, or disapproval. The Magnuson-Stevens Act also requires that NMFS, upon receiving a plan or amendment, publish an announcement in the Federal Register notifying the public that the plan or amendment is available for review and comment.

The FMP being revised by Amendment 17A was prepared by the Council and implemented through regulations at 50 CFR part 622 under the authority of the Magnuson-Stevens Act.

Background

In 2002, through Amendment 11 to the FMP, the Council established a Federal commercial open access permit for all vessels harvesting shrimp from federal waters of the Gulf (67 FR 51074, August 7, 2002). Approximately 2,951 vessels had been issued these permits by 2006. After the establishment of the permit, the shrimp fishery experienced economic losses, primarily because of high fuel costs and reduced shrimp prices caused by competition from imports. These economic losses resulted in decreasing numbers of vessels in the fishery, and consequently, reduction of effort. The Council determined that the number of vessels in the offshore shrimp fleet would likely decline to a point where the fishery again became profitable for the remaining participants, and new vessels might want to enter the fishery. That additional effort could negate, or at least lessen, profitability for the fleet as a whole. Consequently, through Amendment 13 to the FMP, the Council established a 10-year moratorium on the issuance of new Federal commercial shrimp vessel permits and established a royal red shrimp endorsement to the Gulf shrimp permit (71 FR 56039, September 26, 2006). The moratorium on permits also indirectly controls shrimping effort in Federal waters and thereby, bycatch levels of juvenile red snapper and sea turtles. The final rule implementing the moratorium was effective October 26, 2006, and the moratorium permits became effective in March 2007. Amendment 17A would extend the moratorium for an additional 10 years until October 26, 2026. Extending the moratorium is expected to maintain the biological, social, and economic benefits to the shrimp fishery achieved under the moratorium over the past 10 years.

The purpose of establishing the royal red shrimp endorsement was to help inform data collectors about who the royal red shrimpers were and collect better information about the fishery. These endorsements are available to anyone with a Federal Gulf commercial shrimp permit and many more royal red shrimp endorsements are issued than the number of vessels actually harvesting royal red shrimp. Royal red shrimp are primarily harvested from deep waters requiring greater capital investment; therefore, historically only a small number of boats have been engaged in harvesting royal red shrimp. In Amendment 17A, the Council considered eliminating the royal red shrimp endorsement to the Gulf shrimp permit. However, the Council chose to retain the endorsement because it may be useful in the future to identify shrimpers who could be exempt from closed areas and for enforcement.

A proposed rule that would implement measures outlined in Amendment 17A has been drafted. In accordance with the Magnuson-Stevens Act, NMFS is evaluating the proposed rule to determine whether it is consistent with the FMP, the Magnuson-Stevens Act, and other applicable law. If that determination is affirmative, NMFS will publish the proposed rule in the Federal Register for public review and comment.

Consideration of Public Comments

The Council has submitted Amendment 17A for Secretarial review, approval, and implementation. Comments on Amendment 17A must be received by June 6, 2016. Comments received during the respective comment periods, whether specifically directed to the amendment or the proposed rule, will be considered by NMFS in its decision to approve, disapprove, or partially approve the amendment and will be addressed in the final rule.

Authority: 16 U.S.C. 1801 et seq.

Dated: March 31, 2016.
Alan D. Risenhoover,
Director, Office of Sustainable Fisheries, National Marine Fisheries Service.

[FR Doc. 2016-07732 Filed 4-4-16; 8:45 am]

BILLING CODE 3510-22-P